DEPARTMENT OF ENERGY

Federal Energy Regulatory Commission

[Docket No. RP97-255-009]

TransColorado Gas Transmission Company; Notice of Tariff Filing

July 14, 2000.

Take notice that on July 11, 2000, TransColorado Gas Transmission Company (TransColorado) tendered for filing as part of its FERC Gas Tariff, Original Volume No. 1, Ninth Revised Sheet No. 21 and Fifth Revised Sheet No. 22, to be effective July 11, 2000.

TransColorado states that the filing is being made in compliance with the Commission's letter order issued March 20, 1997, in Docket No. RP97-255-000.

TransColorado states that the tendered tariff sheets revised TransColorado's Tariff to implement an amended negotiated-rate interruptible transportation service agreement between TransColorado and Burlington Resources Trading, Inc. TransColorado requested waiver of 18 CFR 154.207 so that the tendered tariff sheets may become effective July 11, 2000.

TransColorado states that a copy of this filing has been served upon all parties to this proceeding, TransColorado's customers, the Colorado Public Utilities Commission and New Mexico Public Utilities Commission.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

Linwood A. Watson, Jr.,
Acting Secretary.

[FR Doc. 00-18304 Filed 7-19-00; 8:45 am]

BILLING CODE 6717-01-M